FEDERAL COMMUNICATIONS COMMISSION

Public Information Collections Approved by Office of Management and Budget

October 24, 2006.

SUMMARY: The Federal Communications Commission (Commission) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0681.

OMB Approval Date: 10/13/2006.

Expiration Date: 10/31/2009.

Title: Sections 52.103, Lag Times and 52.105, Warehousing (Toll-Free Service Access Codes, CC Docket No. 95-155, 47 CFR Part 52, Subpart D).

Form No.: N/A.

Estimated Annual Burden: 300 responses; 4,500 total annual burden hours.

Needs and Uses: Responsible organizations (RespOrgs) who wish to make a specific toll free number unavailable, must submit written requests to DSMI, the toll free data administrator. The request shall include documentation outlining the reason for the request. The information is necessary to hold RespOrgs more accountable and decreases abuses of lag time process. It prevents numbers from being held in unavailable status without demonstrated reasons and makes more numbers available for subscribers who need and want them.

OMB Control No.: 3060-0723.

OMB Approval date: 10/05/2006.

Expiration Date: 10/31/2009.

Title: Public Disclosure of Network Information by Bell Operating Companies.

Form No.: N/A.

Estimated Annual Burden: 3 responses; 360 total annual burden hours.

Needs and Uses: Bell Operating Companies must make public disclosure of network information. This prevents them from designing new network services or changing network technical specifications to the advantage of their own payphones.

OMB Control No.: 3060-0790.

OMB Approval date: 10/05/2006.

Expiration Date: 10/31/2009.

Title: Section 68.110(c)—Availability of Inside Wiring Information.

Form No.: N/A.

Estimated Annual Burden: 1,200 responses; 1,200 total annual burden hours.

Needs and Uses: 47 CFR 68.110(c) requires telephone companies to provide building owners with all available information regarding carrier installed wiring on the customer's side of the demarcation point, including copies of existing schematic diagrams and service records. The information must be provided by the telephone company upon request of the building owner or agent thereof. The information is needed so that building owners may choose to contract with an installer of their choice for inside wiring maintenance and installation service, or elect to contract with the telephone company to modify existing wiring or assist with the installation of additional inside wiring.

OMB Control No.: 3060-0943.

OMB Approval Date: 10/16/2006.

Expiration Date: 10/31/2009.

Title: Section 54.809, Carrier Certification.

Form No.: N/A.

Estimated Annual Burden: 572 responses; 858 total annual burden hours.

Needs and Uses: Section 54.809 of the Commission's rules requires each price cap or competitive LEC that wishes to receive universal support to file an annual certification with the Universal Service Administrative Company and the Commission. The certification must state that the carrier will use its interstate access universal service support only for the provision, maintenance, and upgrading of facilities and service for which the support is intended.

Federal Communications Commission.
Marlene H. Dortch,
Secretary.

[FR Doc. E6-18170 Filed 10-31-06; 8:45 am]

BILLING CODE 6712-01-P